DEPARTMENT OF THE INTERIOR

Office of Natural Resources Revenue

[Docket No. ONRR-2011-0003; DS63610000 DR2PS0000.CH7000 145DO102R2]

Assessments for Mismatched Payments or Inadequate Payment Information for Geothermal, Solid Minerals, and Indian Oil and Gas Leases

AGENCY: Office of Natural Resources Revenue, Interior.

ACTION: Notice.

SUMMARY: Regulations for geothermal, solid minerals, and Indian oil and gas leases authorize the Office of Natural Resources Revenue (ONRR) to assess payors for failure to submit payments of the same amount as the royalty or bill document or to provide adequate information. The amount assessed for each mismatched or inadequately identified payment will be $243.00, effective on the date below.

DATES: Effective Date: October 22, 2014.

FOR FURTHER INFORMATION CONTACT: Paul Knueven, Financial Management (FM), ONRR; telephone (303) 231-3316; email paul.knueven@onrr.gov; or Joseph Muniz, FM, ONRR, telephone (303) 231-3103; email joseph.muniz@onrr.gov. FAX: (303) 231-3216. Mailing address: Department of The Interior, Office of Natural Resources Revenue, P.O. Box 25165, MS 61211B, Denver, Colorado 80225-0165.

SUPPLEMENTARY INFORMATION: On March 26, 2008, ONRR published a final rule titled “Reporting Amendments” (73 FR 15885), with an effective date of April 25, 2008. This rule revised 30 CFR 1218.41 to comply with the Federal Oil and Gas Royalty Simplification and Fairness Act of 1996. The regulations authorize ONRR to assess payors for failure to submit payments of the same amount as the royalty or bill document, or to provide adequate information. Section 1218.41(f) requires ONRR to publish the assessment amount and the effective date in the Federal Register.

ONRR bases the amount of the assessment on ONRR's cost experience with improper payment and identification. ONRR increased the assessment due to Federal employee pay raises and minor adjustments in correction time. The assessment allows ONRR to recover the associated costs and provides industry with incentives to improve the efficiency of payment processing.

Dated: September 8, 2014.
Gregory J. Gould,
Director for Office of Natural Resources Revenue.

[FR Doc. 2014-22451 Filed 9-19-14; 8:45 am]

BILLING CODE 4310-T2-P